DEPARTMENT OF THE TREASURY

Office of Foreign Assets Control

Unblocking of Specially Designated Nationals and Blocked Persons

AGENCY: Office of Foreign Assets Control, Treasury.

ACTION: Notice.

SUMMARY: The Department of the Treasury's Office of Foreign Assets Control (OFAC) is publishing the names of the individuals and entities whose property and interests in property have been unblocked pursuant to Executive Order 12978 of October 21, 1995, “Blocking Assets and Prohibiting Transactions With Significant Narcotics Traffickers.” Additionally, OFAC is publishing an update to the identifying information of two individuals currently included in the list of Specially Designated Nationals and Blocked Persons (SDN List).

DATES: The unblocking and removal from the list of Specially Designated Nationals and Blocked Persons (SDN List) of the five individuals and five entities identified in this notice whose property and interests in property were blocked pursuant to Executive Order 12978 of October 21, 1995, is effective on August 27, 2015. Additionally, the update to the SDN List of the identifying information of the two individuals identified in this notice is also effective on August 27, 2015.

FOR FURTHER INFORMATION CONTACT: Assistant Director, Sanctions Compliance & Evaluation, Department of the Treasury, Office of Foreign Assets Control, Washington, DC 20220, Tel: (202) 622-2490.

SUPPLEMENTARY INFORMATION:

Electronic and Facsimile Availability

This document and additional information concerning OFAC are available from OFAC's Web site (www.treasury.gov/ofac) or via facsimile through a 24-hour fax-on demand service at (202) 622-0077.

Background

On October 21, 1995, the President, invoking the authority, inter alia, of the International Emergency Economic Powers Act (50 U.S.C. 1701-1706) (IEEPA), issued Executive Order 12978 (60 FR 54579, October 24, 1995) (the Order). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The foreign persons listed in an Annex to the Order; (2) any foreign person determined by the Secretary of Treasury, in consultation with the Attorney General and the Secretary of State: (a) to play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On August 27, 2015, the Associate Director of the Office of Global Targeting removed from the SDN List the individuals and entities listed below, whose property and interests in property were blocked pursuant to the Order:

Individuals

1. JAIMES RIVERA, Jose Isidro, c/o SOCOVALLE LTDA., Cali, Colombia; c/o COMERCIALIZADORA INTERNACIONAL VALLE DE ORO S.A., Cali, Colombia; c/o GANADERIAS DEL VALLE S.A., Cali, Colombia; c/o INVERSIONES EL PENON S.A., Cali, Colombia; c/o CONSULTORIA EMPRESARIAL ESPECIALIZADA LTDA., Cali, Colombia; c/o ADMINISTRACION INMOBILIARIA BOLIVAR S.A., Cali, Colombia; c/o INVERSIONES GEMINIS S.A., Cali, Colombia; c/o CONCRETOS CALI S.A., Cali, Colombia; c/o CONSTRUCTORA DIMISA LTDA., Cali, Colombia; c/o INMOBILIARIA U.M.V. S.A., Cali, Colombia; c/o INDUSTRIA DE CARNES LTDA., Pereira, Colombia; c/o INVERSIONES BETANIA LTDA., Cali, Colombia; DOB 07 Nov 1949; Cedula No. 10090006 (Colombia) (individual) [SDNT].

2. CARDENAS REAL, Juan, c/o GRUPO C.L.P. CONSTRUCTORA S.A. DE C.V., Guadalajara, Jalisco, Mexico; c/o GRUPO CONSTRUCTOR INMOBILIARIO PACAR S.A. DE C.V., Guadalajara, Jalisco, Mexico; Calle Lopez Cotilla 2032, Piso 10, Colonia Americana, Guadalajara, Jalisco, Mexico; Avenida Nicolas Copernico, No. 3924, Fraccionamiento Arboledas, Sector Juarez, Guadalajara, Jalisco, Mexico; Clz. Revolucion 2259, Guadalajara, Jalisco, Mexico; DOB 20 Jan 1944; POB Guadalajara, Jalisco, Mexico; nationality Mexico; citizen Mexico; C.U.R.P. CARJ440120HJCRLN08 (Mexico); alt. C.U.R.P. CARJ440120MJCRLN08 (Mexico) (individual) [SDNT].

3. PACHECO MEJIA, Luis, Calle Paseo de Los Virreyes No. 4022, Colonia San Wenceslao, Zapopan, Jalisco, Mexico; c/o FLORIDA SOCCER CLUB S.A., Medellin, Colombia; c/o GRANOPRODUCTOS AGRICOLAS S.A. DE C.V., Guadalajara, Jalisco, Mexico; c/o GRUPO C.L.P. CONSTRUCTORA S.A. DE C.V., Guadalajara, Jalisco, Mexico; c/o GRUPO CONSTRUCTOR INMOBILIARIO PACAR S.A. DE C.V., Guadalajara, Jalisco, Mexico; c/o CIMIENTOS LA TORRE S.A. DE C.V., Guadalajara, Jalisco, Mexico; DOB 18 Jun 1951; POB Guadalajara, Jalisco, Mexico; Passport 03140120376 (Mexico); R.F.C. PAML-510618-ED7 (Mexico) (individual) [SDNT].

4. HENAO GONZALEZ, Lina Marcela, Avenida 4 Oeste No. 5-97, Apt. 1001, Cali, Colombia; c/o AGRICOLA GANADERA HENAO GONZALEZ Y CIA. S.C.S., Cartago, Colombia; c/o COMPANIA AGROINVERSORA HENAGRO LTDA., Cartago, Colombia; c/o DESARROLLOS COMERCIALES E INDUSTRIALES HENAO GONZALEZ Y CIA. S.C.S., Cartago, Colombia; c/o ORGANIZACION EMPRESARIAL A DE J HENAO M E HIJOS Y CIA. S.C.S., Cartago, Colombia; DOB 10 May 1985; POB Cali, Valle, Colombia; Cedula No. TI-85051037834 (Colombia); Passport AF228090 (Colombia); alt. Passport TI-85051037834 (Colombia); NIT # 650000091-9 (Colombia) (individual) [SDNT].

5. HENAO GONZALEZ, Olga Patricia, Avenida 4 Oeste No. 5-97, Apt. 1001, Cali, Colombia; c/o AGRICOLA GANADERA HENAO GONZALEZ Y CIA. S.C.S., Cartago, Colombia; c/o COMPANIA AGROINVERSORA HENAGRO LTDA., Cartago, Colombia; c/o DESARROLLOS COMERCIALES E INDUSTRIALES HENAO GONZALEZ Y CIA. S.C.S., Cartago, Colombia; c/o ORGANIZACION EMPRESARIAL A DE J HENAO M E HIJOS Y CIA. S.C.S., Cartago, Colombia; DOB 18 Jan 1988; POB Cali, Valle, Colombia; Cedula No. RN12524986 (Colombia); Passport AG762459 (Colombia); alt. Passport RN12524986 (Colombia); NIT # 600018532-2 (Colombia) (individual) [SDNT].

Entities

1. FLORIDA SOCCER CLUB S.A. (a.k.a. CORPORACION DEPORTIVA FLORIDA SOCCER CLUB; a.k.a. FSC S.A.), Calle 48 No. 70-80 Ofc. 115, Medellin, Colombia; Calle 49B No. 74-31 Sector Estadio, Medellin, Colombia; Itagui, Antioquia, Colombia; NIT # 811046159-2 (Colombia) [SDNT].

2. GRANOPRODUCTOS AGRICOLAS S.A. DE C.V., Zona Conurbada, Guadalajara, Jalisco, Mexico [SDNT].

3. GRUPO CONSTRUCTOR INMOBILIARIO PACAR S.A. DE C.V., Guadalajara, Jalisco, Mexico [SDNT].

4. COMPANIA AGROPECUARIA DEL SUR LTDA. (a.k.a. COAGROSUR LTDA.; f.k.a. MARIA NURY CAICEDO E HIJAS Y CIA S.C.S.), Calle 114A No. 11A-40, Apt. 302, Bogota, Colombia; NIT # 800107990-1 (Colombia) [SDNT].

5. INVERSIONES AGROINDUSTRIALES DEL OCCIDENTE LTDA. (a.k.a. INAGROCCIDENTE LTDA.; f.k.a. RENTERIA CAICEDO E HIJAS Y CIA S.C.S.), Calle 114A No. 11A-40, Apt. 302, Bogota, Colombia; NIT # 800107993-1 (Colombia) [SDNT].

Additionally, on August 27, 2015, the Associate Director of the Office of Global Targeting updated the SDN record for two individuals listed below, whose property and interests in property continue to be blocked pursuant to the Order:

Individuals

1. CASTRILLON VASCO, Jhon Jairo; DOB 30 Mar 1960; POB Medellin, Colombia; Cedula No. 71603587 (Colombia) (individual) [SDNT] (Linked To: HOTEL LA CASCADA S.A.; Linked To: INVERSIONES Y REPRESENTACIONES S.A.).

2. RENTERIA MANTILLA, Carlos Alberto (a.k.a. “BETO RENTERIA”), Carrera 26 No. 29-75, Tulua, Colombia; DOB 11 Mar 1945; POB Colombia; citizen Colombia; Cedula No. 6494208 (Colombia) (individual) [SDNT] (Linked To: DIMABE LTDA.; Linked To: COLOMBO ANDINA COMERCIAL COALSA LTDA.).

Dated: August 27, 2015.
Gregory T. Gatjanis,
Associate Director, Office of Global Targeting, Office of Foreign Assets Control.

[FR Doc. 2015-21660 Filed 9-1-15; 8:45 am]

BILLING CODE 4810-AL-P